DEPARTMENT OF THE INTERIOR

Bureau of Land Management

Notice of Availability of Sierra Proposed Resource Management Plan and Final Environmental Impact Statement, California

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a Proposed Resource Management Plan (RMP) and Final Environmental Impact Statement (EIS) for the Sierra planning area managed by the Folsom Field Office.

DATES: BLM Planning Regulations (43 CFR 1610.5-2) state that any person who participated in the planning process and has an interest which may be adversely affected, may protest BLM's approval or amendment of an RMP. Protests must be filed within 30 days of the date that the Environmental Protection Agency publishes their Notice of Availability in the Federal Register. Instructions for filing protests are described in the front cover of the Sierra Proposed RMP and Final EIS and in the Supplementary Information section of this notice.

FOR FURTHER INFORMATION CONTACT: Sandra McGinnis, (916) 985-4474, Bureau of Land Management, 63 Natoma Street, Folsom, CA 95630; caformp@ca.blm.gov.

SUPPLEMENTARY INFORMATION: The planning area for the Sierra RMP is the Folsom Field Office's area of management responsibility. The planning area encompasses portions of 15 California counties: Yuba, Sutter, Colusa, Nevada, Placer, El Dorado, Alpine, Amador, Calaveras, San Joaquin, Tuolumne, Mariposa, Sacramento, Stanislaus, and Merced. A total of 230,000 acres of public lands and 300,000 acres of subsurface mineral estate are administered by BLM. The decisions in the RMP will only apply to BLM lands and mineral estate in the planning area. The Sierra Proposed RMP and Final EIS have been developed through collaborative planning and consider four alternatives. Primary issues include: recreation, wild and scenic river recommendations, sensitive natural and cultural resources, livestock grazing, wildland fire risk and fuel reduction, energy and mineral development, land ownership adjustments, and motorized vehicle route designations. The Proposed RMP includes two wild and scenic river suitability recommendations: South Fork American River (8.8 miles—recreational) and North Fork and Main Mokelumne River (13.7 miles—wild, scenic, recreational). The Proposed RMP includes eight new Areas of Critical Environmental Concern (ACECs): Pine Hill Preserve (3,236 acres), Cosumnes River Preserve (2,035 acres), Spivey Pond (54 acres), Deadman's Flat (796 acres), Dutch Flat/Indiana Hill proposed Research Natural Area, which is a type of ACEC (320 acres), Bagby Serpentine (5,775 acres) and North Fork Cosumnes (1,129 acres). Additionally, the Proposed RMP would expand three existing ACECs: Red Hills, Ione Manzanita, and Limestone Salamander ACECs. Use of public lands in these ACECs would vary depending on their individual resources and values but would include limitations on motorized use, mining, and other surface disturbing activities. Copies of the Sierra Proposed RMP and Final EIS have been sent to affected Federal, state, and local government agencies and to interested parties. Copies are available for public inspection on the internet at http://www.blm.gov/ca/st/en/fo/folsom/nepa2.2.html. The document is also available at some local libraries, BLM's Folsom Field Office (63 Natoma Street, Folsom, CA 95630) and upon request by emailing or calling BLM (see contact information, above). Comments on the Sierra Draft RMP/EIS received from the public and internal BLM review were incorporated into the proposed RMP. Public comments resulted in corrections, clarifying text, and the proposal to establish a 1,129 acre ACEC along the North Fork Cosumnes River. The public has 60 days from this notice to comment on this ACEC proposal. A final decision on the RMP will not be issued until after this 60 day comment period and until all protests are resolved.

Instructions for filing a protest with the Director of the BLM regarding the Proposed RMP and Final EIS are described in 43 CFR 1610.5-2. A protest may only raise issues that were submitted for the record during the planning process. Emailed and faxed protests will not be accepted as valid protests unless the protesting party also provides the original letter by regular or overnight mail postmarked by the close of the protest period. Under these conditions, BLM will consider the emailed or faxed protest as an advance copy and it will receive full consideration. If you wish to provide BLM with such advance notification, please direct faxed protests to the attention of the BLM protest coordinator at (202) 452-5112, and e-mails to Brenda_Hudgens-Williams@blm.gov.

Please direct the follow-up letter to the appropriate address provided below.

The protest must contain:

a. The name, mailing address, telephone number, and interest of the person filing the protest.

b. A statement of the part(s) of the plan and the issue(s) being protested.

c. A copy of all documents addressing the issue(s) that the protesting party submitted during the planning process or a statement of the date they were discussed for the record.

d. A concise statement explaining why the protestor believes the State Director's decision is wrong.

All protests must be in writing and mailed to one of the following addresses:

Regular Mail:Director (210), Attention: Brenda Williams, P.O. Box 66538, Washington, DC 20035.

Overnight Mail: Director (210), Attention: Brenda Williams, 1620 L Street, NW., Suite 1075, Washington, DC 20036.

Before including your address, phone number, email address, or other personal identifying information in your comment, you should be aware that your entire comment—including your personal identifying information—may be made publicly available at any time. While you can ask us in your comment to withhold your personal identifying information from public review, we cannot guarantee that we will be able to do so.

The Director will promptly render a decision on any protests. The decision will be in writing and will be sent to the protesting party by certified mail, return receipt requested. The decision of the Director is the final decision of the Department of the Interior.

Dated: March 13, 2007.
William S. Haigh,
Field Manager.

[FR Doc. E7-11140 Filed 6-7-07; 8:45 am]

BILLING CODE 4310-40-P